ENVIRONMENTAL PROTECTION AGENCY

[ER-FRL-6617-6]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-K65230-CA Rating EC2, Fuels Reduction for Community Protection Phase 1 Project on the Six Rivers National Forest, Proposes to Reduce Fuels High Severity Burned Stands, Lower Trinity Ranger District, Humboldt and Trinity Counties, CA.

Summary: EPA expressed environmental concerns related to purpose and project scope, and the need for additional information on the transportation system in the area. EPA also suggested that the final EIS include additional mitigation measures to address sedimentation and temperature issues in affected streams.

ERP No. D-AFS-L65368-ID Rating EC2, Curfew National Grassland Land and Resource Management Plan, Implementation, Caribou-Targhee National Forest, Oneida County, ID.

Summary: EPA expressed environmental concerns with the range of alternatives, and the need for additional information on impacts to air and water quality, and cumulative impacts. EPA suggests that the final EIS include a modified alternative within the range of alternatives that considers a grazing limit of 1000 acres or less. In addition, the FEIS should explain the significance of the changes in sagebrush canopy cover that would occur under each alternative.

ERP No. D-BLM-J02011-00 Rating EO2, Programmatic EIS—Southern Ute Indian Reservation Oil and Gas Development, Implementation, San Juan Basin, LaPlata, Archuleta, Montezuma Counties, CO and Rio Arriba and San Juan Counties, NM.

Summary: EPA expressed environmental objections with potential adverse impacts from temporary drilling, construction and well service and maintenance activities on 171 acres of wetlands and to federally threatened and endangered species (TES) including protection to active bald eagle nesting areas. The final EIS should include additional information to calculate cumulative impacts to wetlands and TES.

ERP No. D-FAA-E40785-FL Rating EC2, Fort Lauderdale—Hollywood International Airport, Proposed Expansion of Runway 9R-2FL and other Associated Improvements, Funding, Broward County, FL.

Summary: EPA is concerned about the insufficiency of the NEPA air quality analysis, potential noise impacts of the Proposed Project in EJ and non-EJ residential communities near the airport, the predicted loss of tidal mangrove wetlands, the limiting of the alternatives analysis, as well as the potential safety concerns of the proposed runway bridge.

ERP No. D-MMS-L03010-AK Rating EO2, Liberty Development and Production Plan, Beaufort Sea Oil and Gas Development, Implementation, To Transport and Sell Oil to the U.S. and World Markets, Right-of-Way Application, Offshore Beaufort Sea Marine Environment and Onshore North Slope of Alaska Coastal Plan, AK.

Summary: EPA expressed environmental objections due to the lack of analysis of the issues and concerns of the Inupiat Eskimos as required by Executive Order (EO) 12898, the potentially significant effects from leaks and spills associated with the use of undersea pipelines in the Beaufort Sea, the technological/logistical difficulties in responding to oil spills in the Beaufort, and the potential use of project components for which there are less environmentally damaging options. EPA recommended that additional information and analysis related to these objections be included in the EIS.

ERP No. D-NPS-E64018-GA Rating LO, Cumberland Island National Seashore General Management Plan, Wilderness Management Plan, Commercial Services Plan, Interpretation Plan, Resource Cultural and Natural Management Plan, Implementation, St. Marys County, GA.

Summary: EPA expressed lack of concerns.

Final EISs

ERP No. FA-NOA-E64016-FL, Florida Keys National Sanctuary Comprehensive Management Plan, New Information Concerning the Establishment of the Tortugas Marine Reserves in Seven Fishery Management Plan Amendments in the Gulf of Mexico.

Summary: EPA had no objections to the proposed plan.

Dated: April 24, 2001.
Joseph C. Montgomery,
Director, NEPA Compliance Division, Office of Federal Activities.

[FR Doc. 01-10555 Filed 4-26-01; 8:45 am]

BILLING CODE 6560-50-P